DEPARTMENT OF TRANSPORTATION

Federal Aviation Administration

14 CFR Part 39

[Docket No. FAA-2008-0671; Directorate Identifier 2008-NM-017-AD; Amendment 39-15796; AD 2009-02-06]

RIN 2120-AA64

Airworthiness Directives; Boeing Model 737-300, -400, and -500 Series Airplanes

AGENCY: Federal Aviation Administration (FAA), DOT.

ACTION: Final rule.

SUMMARY: We are adopting a new airworthiness directive (AD) for certain Boeing Model 737-300, -400, and -500 series airplanes. This AD requires repetitive high frequency eddy current inspections for cracking of the 1.04-inch nominal diameter wire penetration hole in the frame and frame reinforcement, between stringers S-20 and S-21, on both the left and right sides of the airplane, and related investigative and corrective actions if necessary. This AD results from reports of cracking in the frame, or in the frame and frame reinforcement, common to the 1.04-inch nominal diameter wire penetration hole intended for wire routing. We are issuing this AD to detect and correct cracking in the fuselage frames and frame reinforcements, which could reduce the structural capability of the frames to sustain limit loads, and result in cracking in the fuselage skin and subsequent rapid depressurization of the airplane.

DATES: This AD is effective April 15, 2009.

The Director of the Federal Register approved the incorporation by reference of a certain publication listed in this AD as of April 15, 2009.

ADDRESSES: For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Wayne Lockett, Aerospace Engineer, Airframe Branch, ANM-120S, FAA, Seattle Aircraft Certification Office, 1601 Lind Avenue, SW., Renton, Washington 98057-3356; telephone (425) 917-6447; fax (425) 917-6590.

SUPPLEMENTARY INFORMATION:

Discussion

We issued a notice of proposed rulemaking (NPRM) to amend 14 CFR part 39 to include an airworthiness directive (AD) that would apply to certain Boeing Model 737-300, -400, and -500 series airplanes. That NPRM was published in the Federal Register on June 24, 2008 (73 FR 35598). That NPRM proposed to require repetitive high frequency eddy current (HFEC) inspections for cracking of the 1.04-inch nominal diameter wire penetration hole in the frame and frame reinforcement, between stringers S-20 and S-21, on both the left and right sides of the airplane, and related investigative and corrective actions if necessary.

Comments

We gave the public the opportunity to participate in developing this AD. We considered the comments received from the single commenter.

Request To Revise Paragraph (h) To Correct References to Parts of the Service Bulletin

KLM Royal Dutch Airlines (KLM) requests that we revise paragraph (h) of the NPRM to correct the references to certain parts of Boeing Alert Service Bulletin 737-53A1279, dated December 18, 2007 (“the service bulletin”), for doing certain actions. KLM points out that paragraph (h) of the NPRM refers to Part 3 of the service bulletin for doing the repair and to Part 4 of the service bulletin for doing the preventative modification. KLM further points out that Part 4 of the service bulletin concerns repeat inspections, not the preventative modification. The preventative modification is provided in Part 5 of the service bulletin.

We agree with the commenter. It was our intention to refer to Part 5 of the service bulletin for doing the preventative modification provided in paragraph (h) of the NPRM. Therefore, we have revised paragraph (h) of this AD to refer to Part 5 of the service bulletin for doing the preventative modification.

Request To Revise Paragraph (e) To Clarify Compliance Times

KLM requests that we revise paragraph (e) of the NPRM to refer to paragraph 1.E., “Compliance,” of the service bulletin. KLM asserts that adding a reference to the location of the compliance times in the service bulletin would be helpful.

We do not agree to revise paragraph (e) of this AD. A reference to paragraph 1.E., “Compliance,” of Boeing Service Bulletin 737-53A1279, dated December 18, 2007, is already provided in paragraph (g) of this AD.

Conclusion

We reviewed the relevant data, considered the comments received, and determined that air safety and the public interest require adopting the AD with the change described previously. We also determined that this change will not increase the economic burden on any operator or increase the scope of the AD.

Costs of Compliance

We estimate that this AD affects 616 airplanes of U.S. registry. The following table provides the estimated costs for U.S. operators to comply with this AD. The average labor rate is $80 per work hour.

Estimated Costs
Action | Work hours | Parts | Cost per product | Number of U.S.-registered airplanes | Fleet cost
Inspection | Between 6 and 8 (depending on airplane configuration), per inspection cycle | $0 | Between $480 and $640, per inspection cycle | 616 | Between $295,680 and $394,240, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, (2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-02-06 Boeing: Amendment 39-15796. Docket No. FAA-2008-0671; Directorate Identifier 2008-NM-017-AD.

Effective Date

(a) This airworthiness directive (AD) is effective April 15, 2009.

Affected ADs

(b) None.

Applicability

(c) This AD applies to Boeing Model 737-300, -400, and -500 series airplanes, certificated in any category; as identified in Boeing Alert Service Bulletin 737-53A1279, dated December 18, 2007.

Unsafe Condition

(d) This AD results from reports of cracking in the frame, or in the frame and frame reinforcement, common to the 1.04-inch nominal diameter wire penetration hole intended for wire routing. We are issuing this AD to detect and correct cracking in the fuselage frames and frame reinforcements, which could reduce the structural capability of the frames to sustain limit loads, and result in cracking in the fuselage skin and subsequent rapid depressurization of the airplane.

Compliance

(e) Comply with this AD within the compliance times specified, unless already done.

Service Bulletin Reference Paragraph

(f) The term “service bulletin,” as used in this AD, means the Accomplishment Instructions of Boeing Alert Service Bulletin 737-53A1279, dated December 18, 2007.

(1) The “condition” column of paragraph 1.E. of Boeing Alert Service Bulletin 737-53A1279, dated December 18, 2007, refers to total flight cycles “at the date given on this service bulletin.” This AD applies to the airplanes with the specified total flight cycles as of the effective date of this AD.

(2) Where the service bulletin specifies to contact Boeing for instructions for removing damage and repairing cracking: Before further flight, remove the damage or repair the cracking using a method approved in accordance with the procedures specified in paragraph (i) of this AD.

(3) Although the service bulletin referenced in this AD specifies to submit information to the manufacturer, this AD does not include that requirement.

Inspections, Related Investigative and Corrective Actions

(g) At the applicable time specified in paragraph 1.E., “Compliance,” of the service bulletin, except as specified by paragraph (f)(1) of this AD: Do a high frequency eddy current (HFEC) surface inspection or an HFEC hole/edge inspection for cracking of the 1.04-inch nominal diameter wire penetration hole in the frame and frame reinforcement, between stringer S-20 and S-21; and do all applicable related investigative and corrective actions; by accomplishing all the actions specified in the Accomplishment Instructions of the service bulletin, except as specified by paragraphs (f)(2) and (f)(3) of this AD. Do all applicable related investigative and corrective actions before further flight. Thereafter, repeat the inspections at the applicable intervals specified in paragraph 1.E. of the service bulletin.

Terminating Action

(h) Doing the repair in Part 3 or the preventative modification in Part 5 of the service bulletin terminates the repetitive inspection requirements of this AD.

Alternative Methods of Compliance (AMOCs)

(i)(1) The Manager, Seattle Aircraft Certification Office (ACO), FAA, ATTN: Wayne Lockett, Aerospace Engineer, Airframe Branch, ANM-120S, 1601 Lind Avenue, SW., Renton, Washington 98057-3356; telephone (425) 917-6447; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(j) You must use Boeing Alert Service Bulletin 737-53A1279, dated December 18, 2007, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

(3) You may review copies of the service information incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on January 9, 2009.
Stephen P. Boyd,
Assistant Manager, Transport Airplane Directorate, Aircraft Certification Service.

[FR Doc. E9-4734 Filed 3-10-09; 8:45 am]

BILLING CODE 4910-13-P